DEPARTMENT OF ENERGY

Federal Energy Regulatory Commission

Combined Notice of Filings #1

Take notice that the Commission received the following electric rate filings:

Docket Numbers: ER14-107-000.

Applicants: Midcontinent Independent System Operator, Inc.

Description: 10-16-13 MISO Revs to Scheds 7-8-9-26 to be effective 12/19/2013.

Filed Date: 10/16/13.

Accession Number: 20131016-5122.

Comments Due: 5 p.m. ET 11/6/13.

Docket Numbers: ER14-108-000.

Applicants: Entergy Arkansas, Inc., Entergy Gulf States Louisiana, L.L.C., Entergy Mississippi, Inc., Entergy New Orleans, Inc., Entergy Texas, Inc., Entergy Louisiana, LLC.

Description: Entergy Operating Companies' Reactive Power Revenue Requirement to be effective 1/1/2014.

Filed Date: 10/16/13.

Accession Number: 20131016-5124.

Comments Due: 5 p.m. ET 11/6/13.

Docket Numbers: ER14-109-000.

Applicants: Midcontinent Independent System Operator, Inc.

Description: 10-16-13 SA6503 Gaylord SSR to be effective 10/1/2013.

Filed Date: 10/16/13.

Accession Number: 20131016-5128.

Comments Due: 5 p.m. ET 11/6/13.

Docket Numbers: ER14-110-000.

Applicants: Entergy Gulf States Louisiana, L.L.C.

Description: Nelson 6 Marketing Agreement to be effective 12/16/2013.

Filed Date: 10/16/13.

Accession Number: 20131016-5150.

Comments Due: 5 p.m. ET 11/6/13.

Docket Numbers: ER14-111-000.

Applicants: Midcontinent Independent System Operator, Inc.

Description: 10-16-2013 Schedule 43D Gaylord SSR Consumers to be effective 10/1/2013.

Filed Date: 10/16/13.

Accession Number: 20131016-5151.

Comments Due: 5 p.m. ET 11/6/13.

Docket Numbers: ER14-112-000.

Applicants: Midcontinent Independent System Operator, Inc.

Description: 10-16-2013 SA 6504 Straits SSR Consumers Energy to be effective 10/1/2013.

Filed Date: 10/16/13.

Accession Number: 20131016-5153.

Comments Due: 5 p.m. ET 11/6/13.

Docket Numbers: ER14-113-000.

Applicants: Midcontinent Independent System Operator, Inc.

Description: 10-16-2013 Schedule 43E Straits SSR Consumers to be effective 10/1/2013.

Filed Date: 10/16/13.

Accession Number: 20131016-5155.

Comments Due: 5 p.m. ET 11/6/13.

Docket Numbers: ER14-114-000.

Applicants: Midcontinent Independent System Operator, Inc.

Description: 10-16-13 MISO EAI Coordination Agreement to be effective 12/19/2013.

Filed Date: 10/16/13.

Accession Number: 20131016-5157.

Comments Due: 5 p.m. ET 11/6/13.

Docket Numbers: ER14-115-000.

Applicants: Midcontinent Independent System Operator, Inc.

Description: 10-17-13 Missouri Unexecuted SAs 2546 2547 2548 to be effective 12/19/2013.

Filed Date: 10/16/13.

Accession Number: 20131017-5000.

Comments Due: 5 p.m. ET 11/6/13.

Take notice that the Commission received the following electric securities filings:

Docket Numbers: ES14-3-000.

Applicants: FirstEnergy Service Company.

Description: Application for Authorization under Section 204(a) of the Federal Power Act to Issue Short-Term Debt Securities of FirstEnergy Service Company on Behalf of Allegheny Generating Company.

Filed Date: 10/16/13.

Accession Number: 20131016-5177.

Comments Due: 5 p.m. ET 11/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2013.
Nathaniel J. Davis, Sr.,
Deputy Secretary.

[FR Doc. 2013-25530 Filed 10-28-13; 8:45 am]

BILLING CODE 6717-01-P